DEPARTMENT OF JUSTICE

Notice of Lodging of Proposed Consent Decree Under the Comprehensive Environmental Response, Compensation, and Liability Act (“CERCLA”)

On December 21, 2017, the Department of Justice lodged a proposed Consent Decree with the United States District Court for the Eastern District of California in the lawsuit entitled United States et al. v. Valley Wood Preserving, Inc., et al., Civil Action No. 1:94-cv-05984.

This case involves claims under CERCLA relating to the costs of remediating soil and groundwater contamination at the Valley Wood Preserving Site in Turlock, California (the “Site”). Under the proposed Consent Decree, Valley Wood Preserving, Inc. agrees to conduct the remaining cleanup work at the Site and to pay EPA's future response costs incurred in connection with the Site. In exchange, Valley Wood Preserving, Inc. receives a covenant not to sue under Sections 106 and 107 of CERCLA and Section 7003 of the Resource Conservation and Recovery Act (“RCRA”). A group of current and former shareholders and employees of Valley Wood Preserving, Inc.—Lynn Shurtliff, Edgar J. Langley, Cordes J. Langley, Catherine E.L. Elawadly, Edith E.. Langley, Joyce Logsdon, the Estate of Michael H. Logsdon, the Marie J. Langley Revocable Trust, and Robert Schmidt—are also parties to the proposed Consent Decree, and also receive covenants not to sue under CERCLA and RCRA.

The publication of this notice opens a period for public comment on the proposed Consent Decree. Comments should be addressed to the Assistant Attorney General, Environment and Natural Resources Division, and should refer to United States, et al. v. Valley Wood Preserving, Inc., et al., D.J. Ref. No. 90-11-3-835. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $60.25 (25 cents per page reproduction cost) payable to the United States Treasury. For a paper copy without the exhibits and signature pages, the cost is $27.50.

Henry S. Friedman,
Assistant Section Chief, Environmental Enforcement Section, Environment and Natural Resources Division.

[FR Doc. 2017-28141 Filed 12-28-17; 8:45 am]

BILLING CODE 4410-15-P